DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 6, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: USDA Local and Regional Food Aid Procurement Program.

OMB Control Number: 0551-0046.

Summary of Collection: The U.S. Department of Agriculture's Foreign Agricultural Service (FAS) awards funds to recipients under the USDA Local and Regional Food Aid Procurement Program (USDA LRP Program). The Food, Conservation, and Energy Act of 2008 (the “2008 Farm Bill”), as amended by the Agriculture Improvement Act of 2018 (the “2018 Farm Bill”), provided that the Secretary of Agriculture will provide grants to, or enter into cooperative agreements with, eligible organizations to implement field-based projects that consist of local or regional procurements of eligible commodities in developing countries to provide development assistance and respond to food crisis and disasters, in the case of emergencies, in consultation with United States Agency for International Development's (USAID) Offices of Food for Peace. The USDA LRP Program aims to support development activities to strengthen the trade capacity of food-insecure developing countries and address the cause of chronic food insecurity.

Need and Use of the Information: FAS will collect information from the Participant to determine its ability to carry out a food aid program, to establish the terms under which procured commodities will be provided, to monitor the progress of procurement of commodities (including how transportation is procured), to monitor the progress of expenditure of funds, and to evaluate both the program's success and the Participant's effectiveness in meeting intended results. Without the information it would be significantly more difficult to monitor and evaluate the effectiveness and compliance of Participant's program implementation.

Description of Respondents: Private voluntary organizations, cooperatives, and intergovernmental organizations.

Number of Respondents: 3.

Frequency of Responses: Recordkeeping; Reporting: Semi-annually; Annually.

Total Burden Hours: 9,174.

Ruth Brown,
Departmental Information Collection Clearance Officer.

[FR Doc. 2023-12031 Filed 6-5-23; 8:45 am]

BILLING CODE 3410-10-P